DEPARTMENT OF THE INTERIOR

Geological Survey

A Conversation With Customers on Future Science Directions

AGENCY: U.S. Geological Survey, DOI.

ACTION: Notice of Customer Meeting.

SUMMARY: The USGS is sponsoring two days of listening sessions to help share its science directions for the year 2002 and beyond. The USGS is sponsoring these sessions as an opportunity for users of earth and life science data and research to share their views on future science directions of the USGS. The sessions will be organized around broad science topics and customers who have registered in advance will have an opportunity to give a brief presentation of their science needs and issues. Attendees are welcome to listen to any or all of the sessions. The purposes of this meeting are: (1) to give stakeholders, customers, and others who have interest in the earth and life sciences an opportunity to provide input, from their perspectives and needs, on future science directions; (2) to engage in a dialog with stakeholders on their specific interests within broad science categories; and (3) to discuss opportunities for on-going stakeholder involvement in the development of science initiatives within USGS. The meeting is open to all interested stakeholders. Pre-registration, however, is requested, as meeting space is limited. Registration information is provided below.

DATES: March 22 and 23, 2000.

ADDRESSES: USGS National Center Headquarters, 12201 Sunrise Valley Drive, Reston, VA 20192.

FOR FURTHER INFORMATION CONTACT: Gail Wendt, USGS Office of External Affairs, 703-648-5604 or 703-648-4599 (gwendt@usgs.gov).

SUPPLEMENTARY INFORMATION:

1. Background

As the nation's science agency for natural resources and the environment, the USGS is committed to meeting the health, safety and knowledge needs of the changing world around us. In order to ensure that the science directions and program development of the USGS is in concert with the needs of the public that it serves, the USGS is creating opportunities to have conversations with it customers and to seek their input. The March 22 and 23, 2000, meeting is the first such “Conversation with Customers” to be sponsored by the USGS.

2. Registration Information

Registration information can be obtained by sending an email message to conversation@usgs.gov. You may also call the USGS Office of External Affairs, 703-648-4599. Registered parties will receive a follow-up packet of information that provides an agenda and topics of the listening sessions for each day and the format for participation. Customers who have registered in advance will give a brief presentation (5-10 minutes) and will then engage in a roundtable discussion with USGS leaders. For anyone who wishes to provide input, but who cannot attend, please submit ideas to the same email address: conversation@usgs.gov.

Registration deadline is March 13, 2000.
Amy L. Holley,
Senior Advisor to the Director.

[FR Doc. 00-4275 Filed 2-23-00; 8:45 am]

BILLING CODE 4310-Y7-M